DEPARTMENT OF ENERGY

Biological and Environmental Research Advisory Committee Meeting

AGENCY: Office of Science, Department of Energy.

ACTION: Notice of open meeting.

SUMMARY: This notice announces a meeting of the Biological and Environmental Research Advisory Committee (BERAC). The Federal Advisory Committee Act (Pub. L. 92-463, 86 Stat. 770) requires that public notice of these meetings be announced in the Federal Register.

DATES:

Thursday, October 27, 2016—9:00 a.m.-6:00 p.m.

Friday, October 28, 2016—9:00 a.m.-12:30 p.m.

ADDRESSES: Hilton Washington DC/Rockville Hotel & Executive Meeting Center, 1750 Rockville Pike, Rockville, Maryland 20852

FOR FURTHER INFORMATION CONTACT: Dr. Sharlene Weatherwax, Designated Federal Officer, BERAC, U.S. Department of Energy, Office of Science, Office of Biological and Environmental Research, SC-23/Germantown Building, 1000 Independence Avenue SW., Washington, DC 20585-1290. Phone: (301) 903-3251; fax (301) 903-5051 or email: sharlene.weatherwax@science.doe.gov. The most current information concerning this meeting can be found on the Web site: http://science.energy.gov/ber/berac/meetings/.

SUPPLEMENTARY INFORMATION: Purpose of the Committee: To provide advice on a continuing basis to the Director, Office of Science of the Department of Energy, on the many complex scientific and technical issues that arise in the development and implementation of the Biological and Environmental Research Program.

Tentative Agenda Topics

• Report from the Office of Biological and Environmental Research (BER)

• News from the Biological Systems Science and Climate and Environmental Sciences Divisions (CESD)

• Workshop briefings on BER Exascale Requirements, Terrestrial Aquatic Interfaces, Molecular to Mesoscale Technologies, ILAMB, IA and IAV Modeling

• Overview multi-agency efforts of U.S. Global Change Research Program

• Summary of findings from the CESD Committee of Visitors

• Briefing and discussion on the Grand Challenges Subcommittee

• Briefing on the Low Dose subcommittee

• BERAC member Science Talk

• New Business

• Public Comment

Public Participation: The day and a half meeting is open to the public. If you would like to file a written statement with the Committee, you may do so either before or after the meeting. If you would like to make oral statements regarding any of the items on the agenda, you should contact Sharlene Weatherwax at sharlene.weatherwax@science.doe.gov (email) or (301) 903-5051 (fax). You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 45 days at the BERAC Web site: http://science.energy.gov/ber/berac/meetings/berac-minutes/.

Issued in Washington, DC, on September 29, 2016.
LaTanya R. Butler,
Deputy Committee Management Officer.

[FR Doc. 2016-24058 Filed 10-4-16; 8:45 am]

BILLING CODE 6450-01-P